DEPARTMENT OF TRANSPORTATION

Pipeline and Hazardous Materials Safety Administration

49 CFR Part 192

[Docket ID PHMSA-2005-23447; Notice 3]

RIN 2137-AE25

Pipeline Safety: Standards for Increasing the Maximum Allowable Operating Pressure for Gas Transmission Pipelines

AGENCY: Pipeline and Hazardous Materials Safety Administration (PHMSA), Department of Transportation.

ACTION: Proposed rule; extension of comment period.

SUMMARY: PHMSA is extending the period for public comment to give interested persons an additional week to comment on a proposed rule to amend the pipeline safety regulations to prescribe safety requirements for the operation of certain gas transmission pipelines at pressures based on higher stress levels.

DATES: Anyone interested in filing written comments on the rule proposed in this document must do so by May 19, 2008. PHMSA will consider late filed comments so far as practicable.

ADDRESSES: Comments should reference Docket ID PHMSA-2005-23447 and may be submitted in the following ways:

• E-Gov Web Site: http://www.regulations.gov. This site allows the public to enter comments on any Federal Register notice issued by any agency. Follow the instructions for submitting comments.

• Fax: 1-202-493-2251.

• Mail: Docket Management System: U.S. Department of Transportation, 1200 New Jersey Avenue, SE., Room W12-140, Washington, DC 20590.

• Hand Delivery: DOT Docket Management System; Room W12-140, on the ground floor of the West Building, 1200 New Jersey Avenue, SE., Washington, DC between 9 a.m. and 5 p.m., Monday through Friday, except Federal holidays.

Instructions: Identify the docket ID, PHMSA-2005-23447, at the beginning of your comments. If you submit your comments by mail, submit two copies. If you wish to receive confirmation that PHMSA received your comments, include a self-addressed stamped postcard. Internet users may submit comments at http://www.regulations.gov.

Note: Comments will be posted without changes or edits to http://www.regulations.gov including any personal information provided. Please see the Privacy Act heading in the Regulatory Analyses and Notices section of the Supplemental Information for additional information.

FOR FURTHER INFORMATION CONTACT: For information about this rulemaking, contact Barbara Betsock by phone at (202) 366-4361, by fax at (202) 366-4566, or by e-mail at barbara.betsock@dot.gov. For technical information, contact Alan Mayberry by phone at (202) 366-5124, or by e-mail at alan.mayberry@dot.gov.

SUPPLEMENTARY INFORMATION: PHMSA is extending by one week the comment period on the proposed rulemaking published on March 12, 2008. (73 FR 13167) The Interstate Natural Gas Association of America (INGAA) represents most of the pipeline operators potentially impacted by the proposed rule. INGAA requested this extension in order to complete technical papers it intends to file. PHMSA is granting the extension in order to be able to consider these technical papers.

Issued in Washington, DC, on May 7, 2008.
Jeffrey D. Wiese,
Associate Administrator for Pipeline Safety.

[FR Doc. E8-10628 Filed 5-9-08; 8:45 am]

BILLING CODE 4910-60-P